DEPARTMENT OF TRANSPORTATION

Federal Aviation Administration

14 CFR Part 71

[Docket No. FAA-2024-1707; Airspace Docket No. 24-ASW-4]

RIN 2120-AA66

Amendment of VOR Federal Airways V-68, V-76, V-212, V-222, and V-558, and United States Area Navigation Route T-220 in the Vicinity of Industry, TX

AGENCY: Federal Aviation Administration (FAA), DOT.

ACTION: Final rule, delay of effective date.

SUMMARY: This action delays the effective date of a final rule published in the Federal Register on December 9, 2024, amending Very High Frequency Omnidirectional Range (VOR) Federal Airways V-68, V-212, and V-222, and United States Area Navigation (RNAV) Route T-220; and revoking VOR Federal Airway V-558. The FAA is delaying the effective date to allow sufficient time for completing the update and flight inspection of a Standard Terminal Arrival Route (STAR) instrument procedure into George Bush Intercontinental/Houston Airport, TX, that failed the initial flight inspection and a STAR instrument procedure into San Antonio International Airport, TX, that also failed the initial flight inspection. The STARs are being amended in support of the planned decommissioning of the VOR portion of the Industry, TX (IDU), VOR/Tactical Air Navigation (VORTAC).

DATES: The effective date of the final rule published on December 9, 2024, (89 FR 97510) is delayed from February 20, 2025, to April 17, 2025. The Director of the Federal Register approved this incorporation by reference action under 1 CFR part 51, subject to the annual revision of FAA Order JO 7400.11 and publication of conforming amendments.

FOR FURTHER INFORMATION CONTACT: Colby Abbott, Rules and Regulations Group, Policy Directorate, Federal Aviation Administration, 600 Independence Avenue SW, Washington, DC 20597; telephone: (202) 267-8783.

SUPPLEMENTARY INFORMATION:

Background

The FAA published a final rule in the Federal Register for Docket No. FAA-2024-1707 (89 FR 97510; December 9, 2024), amending VOR Federal Airways V-68, V-212, and V-222, and United States RNAV Route T-220; and revoking VOR Federal Airway V-558 due to the planned decommissioning of the VOR portion of the Industry, TX, VORTAC navigational aid. The effective date for that final rule is February 20, 2025. After the final rule was published, the FAA determined that the required update and flight inspection actions for the two failed STAR instrument procedures, one into George Bush Intercontinental/Houston Airport and one into San Antonio International Airport, would not be completed in time to meet the original planned decommissioning date. Therefore, the current STARs need to remain in place until the next chart date.

The FAA expects the required updates and flight inspections for the affected STARs into George Bush Intercontinental/Houston Airport and into San Antonio International Airport to be completed by April 17, 2025. Therefore, the rule amending VOR Federal Airways V-68, V-212, and V-222, and United States RNAV Route T-220; and revoking VOR Federal Airway V-558 is delayed to coincide with that date.

VOR Federal Airways are published in paragraph 6010(a) and United States Area Navigation Routes are published in paragraph 6011 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available online at www.faa.gov/air_traffic/publications/. You may also contact the Rules and Regulations Group, Policy Directorate, Federal Aviation Administration, 600 Independence Avenue SW, Washington, DC 20597; telephone: (202) 267-8783.

FAA Order JO 7400.11J lists Class A, B, C, D, and E airspace areas, air traffic service routes, and reporting points.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.

Delay of Effective Date

Accordingly, pursuant to the authority delegated to me, the effective date of the final rule for Airspace Docket 24-ASW-4, as published in the Federal Register on December 9, 2024 (89 FR 97510), FR Doc. 2024-28750, is hereby delayed until April 17, 2025.

Authority: 49 U.S.C. 106(f); 40103, 40113, 40120; E.O. 10854, 24 FR 9565, 3 CFR, 1959-1963 Comp., P. 389.

Issued in Washington, DC, on January 8, 2025.
Brian Eric Konie,
Manager (A), Rules and Regulations Group.

[FR Doc. 2025-00732 Filed 1-15-25; 8:45 am]

BILLING CODE 4910-13-P